DEPARTMENT OF DEFENSE

Office of the Secretary

Defense Policy Board: Notice of Federal Advisory Committee Meeting

AGENCY: Under Secretary of Defense for Policy (USDP), Department of Defense (DoD).

ACTION: Notice of Federal advisory committee meeting.

SUMMARY: The DoD is publishing this notice to announce the following Federal advisory committee meeting of the Defense Policy Board (DPB) will take place.

DATES: Closed to the public; Tuesday, December 5, 2023, from 8:30 a.m. to 5:00 p.m. Eastern Standard Time (EST). Closed to the public; Wednesday, December 6, 2023, from 8:00 a.m. to 11:15 a.m. EST.

ADDRESSES: The closed meeting will be held in the Rodman Conference Room, 3D852 at Air Force Mess, 4D881, at The Pentagon, 2000 Defense Pentagon, Washington, DC 20301-2000.

FOR FURTHER INFORMATION CONTACT: Lt Col Jesse Humpal (U.S. Air Force), (571) 256-8395 (Voice), osd.pentagon.rsrcmgmt.list.ousd-policy-defense-board-mbx@mail.mil (Email). Mailing address is 2000 Defense Pentagon, Attn: 5E420, Washington, DC 20301-2000.

SUPPLEMENTARY INFORMATION: Due to circumstances beyond the control of the Designated Federal Officer, the Defense Policy Board was unable to provide public notification required by 41 CFR 102-3.150(a) concerning its December 5-6, 2023 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: To obtain, review, and evaluate classified information related to the DPB's mission to advise on: (a) issues central to strategic DoD planning; (b) policy implications of United States (U.S.) force structure and modernization on DoD's ability to execute U.S. defense strategy; (c) U.S. regional defense policies; and (d) other defense policy topics of special interest to the DoD, as determined by the Secretary of Defense, the Deputy Secretary of Defense, or the USDP.

Agenda: On December 5, 2023, and December 6, 2023, the DPB will receive classified briefings regarding U.S. Defense Policy toward Russia through 2050. The DPB will receive briefings from the following: Lt Col Jesse Humpal, Designated Federal Officer (DFO) for the Defense Policy Board, will discuss the FACA requirements for the DPB and establish the closed meeting rules; The Honorable (Hon.) Sasha Baker, Acting USDP, will welcome the DPB; The Hon. Mara Karlin, Performing the Duties of the Deputy Under Secretary of Defense for Policy (DUSDP), and The Hon. Celeste A. Wallander, Assistant Secretary of Defense for International Security Affairs, will provide an update on how the Office of the USDP is approaching Russia; Mr. Nicholas R. Berliner, Special Assistant to the President and Senior Director for Russia and Central Asia, National Security Council, will provide an update from the Intelligence Community on how they are approaching Russia; General Charles Q. Brown, Chairman of the Joints Chiefs of Staff, will discuss how he is approaching Russia; General Christopher G. Cavoli, Commander U.S. European Command will provide an update on how the combatant command is approaching Russia; the DPB will provide its advice and recommendations to the Hon. Lloyd James Austin III, Secretary of Defense, and the Hon. Kathleen Hicks, Deputy Secretary of Defense; and the Hon. Mara Karlin, Performing the Duties of the DUSDP, and Mr. Elee Wakim, Military Experts Working Group, will provide their findings related to the War in Ukraine. The meeting will then conclude.

Meeting Accessibility: In accordance with 5 U.S.C. 1009(d) and 41 CFR 102-3.155, the DoD has determined that this meeting shall be closed to the public. The Acting Under Secretary of Defense (Policy), in consultation with the DoD FACA Attorney, has determined in writing that this meeting be closed to the public because the discussions fall under the purview of 5 U.S.C. 552b(c)(1) and are so inextricably intertwined with unclassified material that they cannot reasonably be segregated into separate discussions without disclosing classified material.

Written Statements: In accordance with 5 U.S.C. 1009(a)(3) and 41 CFR 102-3.105(j) and 102-3.140(c), the public or interested organizations may submit written statements to the membership of the DPB at any time regarding its mission or in response to the stated agenda of a planned meeting. Written statements should be submitted to the DPB's DFO, which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: November 16, 2023.
Aaron T. Siegel,
Alternate OSD Federal Register Liaison Officer, Department of Defense.

[FR Doc. 2023-25907 Filed 11-22-23; 8:45 am]

BILLING CODE 6001-FR-P